FEDERAL COMMUNICATIONS COMMISSION

47 CFR Part 90

[WT Docket No. 02-08; FCC 02-152]

Public Safety 700 MHz Band

AGENCY: Federal Communications Commission.

ACTION: Final rule; announcement of effective date.

SUMMARY: The Federal Communications Commission (Commission) announces that a certain rule adopted in its Public Safety 700 MHz Band proceeding (WT Docket No. 02-08; FCC 02-152) in 2002, to the extent it contained an information collection requirement that required approval by the Office of Management and Budget (OMB) was approved, and became effective January 31, 2006, following approval by OMB.

DATES: The effective date for the final rule published on June 20, 2002 (67 FR 41847) revising 47 CFR 90.176 is January 31, 2006.

FOR FURTHER INFORMATION CONTACT: Carol Simpson, Public Safety and Homeland Security Bureau, at (202) 418-2391, or Jerry.Cowden@fcc.gov.

SUPPLEMENTARY INFORMATION: 1. On May 16, 2002 the Commission adopted a Report and Order (R&O) in WT Docket No. 02-08; FCC 02-152, a summary of which was published at 67 FR 41847 Q2 (June 20, 2002). In that R&O, the Commission stated that, upon OMB approval, it would publish in the Federal Register a document announcing the effective date of the change to 47 CFR 90.176.

2. On January 31, 2006, OMB approved the public information collection associated with this rule change under OMB Control No. 3060-0783. Therefore, the change to 47 CFR 90.176 became effective on January 31, 2006.

Federal Communications Commission.
Marlene H. Dortch,
Secretary.

[FR Doc. E7-19441 Filed 10-10-07; 8:45 am]

BILLING CODE 6712-01-P